DEPARTMENT OF JUSTICE

Notice of Lodging of Consent Decree Under the Comprehensive Environmental Response, Compensation, and Liability Act

Notice is hereby given that on June 17, 2008, a proposed Consent Decree (“Decree”) in United States v. John Woodhams, Civil Action No. 3:07-CV-0074-RRE-KKK was lodged with the United States District Court for the District of North Dakota.

The Decree resolves the United States' claims under Section 107 of the Comprehensive Environmental Response, Compensation, and Liability Act, 42 U.S.C. 9607, for reimbursement of response costs incurred in connection with the release or threatened release of hazardous substances at the Camelot Cleaners Site in West Fargo, North Dakota (“Site”). The Decree requires Defendant to pay $300,000 to the United States for response costs and assign to the United States all potential rights to insurance claim proceeds relating to the Site.

The Department of Justice will receive for a period of thirty (30) days from the date of this publication comments relating to the Decree. Comments should be addressed to the Assistant Attorney General, Environment and Natural Resources Division, and either emailed to pubcomment-ees.enrd@usdoj.gov or mailed to P.O. Box 7611, U.S. Department of Justice, Washington, DC 20044-7611, and should refer to United States v. John Woodhams, D.J. Ref. 90-11-3-09038.

The Decree may be examined at the Office of the United States Attorney, District of North Dakota, 655 First Avenue North, Suite 250, Fargo, ND 58102-4932, and at U.S. EPA Region 8, 1595 Wynkoop St., Denver, CO 80202-1129. During the public comment period, the Decree, may also be examined on the following Department of Justice Web site, http://www.usdoj.gov/enrd/Consent_Decrees.html. A copy of the Decree may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury or, if by email or fax, forward a check in that amount to the Consent Decree Library at the stated address.

Robert D. Brook,
Assistant Chief, Environmental Enforcement Section, Environment and Natural Resources Division.

[FR Doc. E8-14056 Filed 6-20-08; 8:45 am]

BILLING CODE 4410-15-P